DEPARTMENT OF TRANSPORTATION

Federal Aviation Administration

Proposed Federal Aviation Administration Policy to Include Glider Towing as a Restricted Category Special Purpose Flight Operation

AGENCY: Federal Aviation Administration (DOT).

ACTION: Notice of availability and request for public comment.

SUMMARY: This notice announces the availability of and request for comments on the proposed policy to include the flight operation of glider towing as a restricted category special purpose operation under Title 14 of the Code of Federal Regulations (14 CFR) 21.25(b)(7).

DATES: Comments must be received on or before November 30, 2004.

ADDRESSES: Send all comments on the proposed policy to expand the restricted category special purpose operation to include glider towing to: Federal Aviation Administration, Aircraft Certification Service, Aircraft Engineering Division, Certification Procedures Branch, AIR-110, Room 815, 800 Independence Avenue, SW., Washington, DC 20591. ATTN. Mr. Graham Long. You may deliver comments to: Federal Aviation Administration, Room 815, 800 Independence Ave, SW., Washington, DC 20591.

FOR FURTHER INFORMATION CONTACT: Mr. Graham Long, AIR-110, Room, 815, Federal Aviation Administration, Aircraft Certification Service, Aircraft Engineering Division, 800 Independence Avenue, SW., Washington, DC 20591, Telephone (202) 267-3715, Fax: (202) 237-5340, or e-mail:9-AWA-AIR110-GNL2@FAA.GOV.

SUPPLEMENTARY INFORMATION:

Comments Invited

Interested persons are invited to comment on the proposed policy listed in this notice by submitting such written data, views, or arguments, as they desire to the above address. Comments received on the proposed policy may be examined, before and after the comment closing date, in Room 815, FAA Headquarters Building, 800 Independence Avenue, SW., Washington, DC 20591, weekdays except Federal holidays, between 8:30 a.m. and 4:30 p.m. The Director of the Aircraft Certification Service will consider all communications received on or before the closing date before issuing the final policy.

Background

Glider towing is not currently specified as a restricted category special purpose flight operation, although a similar activity such as banner towing is accepted. Following a request by the Soaring Society of America, we propose that glider towing be accepted as a new special purpose in restricted category, limited to civil-derived restricted category aircraft certificated under 14 CFR 21.25(a)(1). This action is intended to increase the number of airplanes available to glider clubs throughout the country by making available to them tow aircraft that are currently certificated for other uses, such as agricultural spraying.

How To Obtain Copies

You may get a copy of the proposed policy from the Internet at: http://www.faa.gov/Certification/Aircraft/DraftDoc/Comments.htm, under Draft Policy Memos. You may also request a copy from Mr. Graham Long. See the section entitled FOR FURTHER INFORMATION CONTACT for the complete address.

Dated: Issued in Washington, DC, on October 21, 2004.
Nancy C. Lane,
Acting Assistant Manager, Aircraft Engineering Division, Aircraft Certification Service.

[FR Doc. 04-24372 Filed 11-1-04; 8:45 am]

BILLING CODE 4910—13—M